DEPARTMENT OF HEALTH AND HUMAN SERVICES

Centers for Disease Control and Prevention

[Program Announcement 03107]

Linkages of Acute Care and Emergency Medical Services to State and Local Injury Prevention Programs for Terrorism Preparedness and Response; Notice of Availability of Funds

Application Deadline: July 28, 2003.

A. Authority and Catalog of Federal Domestic Assistance Number

This program announcement is authorized under sections 317(k)(2) of the Public Health Service Act, 42 U.S.C. Sections 247b(k)(2). The catalog of Federal Domestic Assistance number is 93.136.

B. Purpose

The Centers for Disease Control and Prevention (CDC) announces the availability of fiscal year (FY) 2003 funds for a cooperative agreement program for Linkages of Acute Care and Emergency Medical Services to State and Local Public Health programs. This program addresses the “Healthy People 2010” focus area of Injury and Violence Prevention.

The purpose of this program is to support collaboration between national organizations of professionals in acute medical care, trauma, emergency medical services (EMS) with state and local public health programs and CDC in efficiently and effectively responding to mass trauma events resulting from terrorism (Part 1). The recipient of Part 2 of this cooperative agreement assumes a coordination role among award recipients, to assure successful collaborative activities.

This cooperative agreement will facilitate the development of relationships that are critical to acute care, trauma, EMS services, and public health in responding effectively to mass trauma events resulting from terrorism.

Measurable outcomes of the program will be in alignment with one or more of the following performance goals for the National Center for Injury Prevention and Control (NCIPC):

• Increase the capacity of injury prevention and control programs to address the prevention of injuries and violence.

• Monitor and detect fatal and non-fatal injuries.

• Conduct a targeted program of research to reduce injury-related death and disability.

C. Eligible Applicants

Assistance will be provided to national non-profit and for profit professional organizations, with at least 25 members, that address either acute care, trauma, or EMS.

Since the ultimate purpose of this program is to develop the capacity of local public health programs to respond effectively to terrorism and mass trauma events, assistance is being provided to those organizations (acute care, trauma or EMS) best equipped to develop that capacity.

Note: Title 2 of the United States Code section 1611 states that an organization described in section 501(c)(4) of the Internal Revenue Code that engages in lobbying activities is not eligible to receive Federal funds constituting an award, grant or loan.

D. Funding

Availability of Funds

Approximately $650,000 is available in FY 2003 to fund approximately three to six awards. It is expected that the average award will be $75,000, ranging from $60,000 to $125,000 under Part 1. Applications with budgets exceeding the maximum range of $125,000 will not be considered. Applicants under Part 2 of this announcement are eligible for an additional award, approximately $50-$75,000, to conduct coordination activities as described in “Recipient Activities—Part 2” below. Note: Applicants for Part 2 funding must apply for and be approved for funding under Part 1 of this announcement.

It is expected that the awards will begin on or about September 15, 2003, and will be available for continuation after a 12-month budget period, for a maximum three-year project period. Funding estimates may change.

Use of Funds

Grant funds will not be made available to support the provision of direct care. Eligible applicants may enter into contracts, including consortia agreements, as necessary to meet the requirements of the program and strengthen the overall application.

Recipient Financial Participation

Matching funds are not required for this program.

E. Program Requirements

In conducting activities to achieve the purpose of this program, the recipient will be responsible for the activities under 1. Recipient Activities, and CDC will be responsible for the activities listed under 2. CDC Activities.

1. Recipient Activities:

Part 1

a. Develop and implement a plan that will build relationships with state and local public health programs. Possible activities include:

(1) Organizing meetings of stakeholders to define and promote ways acute care providers can improve collaboration and/or communication with state and local public health programs in preparing for or responding to terrorism. This could be done at a national, state or local level and should result in information, in the form of white papers, publications, conference or meeting proceedings or summaries, and other communication products that can be disseminated and used by others in the acute care and public health communities to improve collaboration and communication for terrorism preparedness and response.

(2) Constructing a mechanism to assess the needs, barriers or gaps to linking with other member organizations as well as with state and local public health, and disseminating this information to members and potential public health partners.

(3) Developing linkages that result in increased information sharing by identifying (a) existing database, information; and communication systems that should be linked; (b) partners to create those linkages; (c) current barriers to implementing those linkages; and (d) possible solutions to overcome those barriers. Document and disseminate the outcome of this effort.

(4) Compiling and disseminating examples of successful collaborations between acute care organizations and public health for terrorism preparedness and response, particularly at the state and community levels. Examples should provide detailed information on the collaboration and on the methods used to achieve them and should illustrate approaches that might have broad applicability.

(5) Organizing national, state, or regional forums that bring together leadership of the acute care community and public health to bring visibility to the need for collaboration and to encourage discussion of possible collaborative approaches. Disseminate the outcomes of these meetings.

(6) Organize sessions at national meetings to highlight the importance of linkages between acute care providers and state and local public health practitioners. Disseminate the outcome of these sessions to members.

(7) Describe and disseminate descriptions of “best practices” or other successes that involve linkages between acute care and other organizations to address gaps in preparedness. These gaps must be significant impediments to a successful public health response to terrorism. An example of such a gap is the need for surge capacity in acute care facilities.

b. Identify organizational representatives to collaborate with CDC to gather and disseminate policies, guidelines and general information about terrorism and emergency response to local health officials and other partners, such as the National Association of City and County Health Officials (NACCHO)and the Association of State and Territorial Health Officials (ASTHO) in a timely manner.

c. Collaborate with CDC to (1) provide perspectives on policy formulation; and (2) communicate rapidly with, and obtain and share feedback from, members of the grantee's national professional organization.

d. Work with the coordinating center funded under Part 2 below, including participating in conference calls, meetings, and other joint activities.

Part 2

In addition to the activities above, Part 2 recipients will also be responsible for the following activities:

e. Develop a plan of outreach and coordination to facilitate linkages between acute care, trauma, and EMS organizations and state and local public health programs. This may include meetings at the national, state, or local levels.

f. Conduct periodic formal or informal information gathering activities with these organizations and state and local public health programs regarding the status of their linkages with state and local public health programs, obstacles to building of relationships, and opportunities for collaboration.

g. Conduct an assessment to determine what needs exist following implementation of efforts, and how to best fill those needs.

2. CDC Activities (Applicable to Both Parts 1 and 2)

a. Provide technical advice in the development of systems to identify potential issues of interest. This includes assisting recipient to ascertain the extent to which EMS systems are involved in initiatives to improve preparedness and response capacities. CDC will also assist recipient with identifying and sharing any innovations that may have potential application to this project.

b. Provide consultation and scientific and technical assistance in the planning of the project.

c. Work with the organization funded under Part 2 to identify opportunities for collaboration as well as assisting the recipient to identify the level of integration between state and territorial EMS offices and prevention and preparedness initiatives at the federal, state and local levels.

d. Provide program and policy information for dissemination to award recipients.

F. Content

Applications

The Program Announcement title and number must appear in the application. Use the information in the Program Requirements, Other Requirements, and Evaluation Criteria sections to develop the application content. Your application will be evaluated on the criteria listed, so it is important to follow them in laying out your program plan. The narrative should be no more than ten double-spaced pages, printed on one side, with one-inch margins, and unreduced font. Applicants interested in conducting optional (Part 2) coordination activities may submit a narrative not to exceed fifteen pages.

The narrative should consist of, at a minimum, a Plan, Objectives, Methods, Evaluation and Budget addressing Recipient Activities above. The program Plan should briefly address activities to be conducted over the entire three-year project period.

G. Submission and Deadline

Application Forms

Submit the signed original and two copies of PHS 5161-1 (OMB Number 0920-0428). Forms are available in the application kit and at the following Internet address: http://www.cdc.gov/od/pgo/forminfo.htm.

If you do not have access to the Internet, or if you have difficulty accessing the forms on-line, you may contact the CDC Procurement and Grants Office Technical Information Management Section (PGO-TIM) at: 770-488-2700. Application forms can be mailed to you.

Application forms must be submitted in the following order:

Cover Letter

Table of Contents

Application

Budget Information Page

Checklist

Assurances

Certifications

Disclosure Form

Indirect Cost Rate Agreement (if applicable)

Narrative

Submission Date, Time, and Address

The application must be received by 4 p.m. Eastern Time July 28, 2003. Submit the application to: Technical Information Management—PA 03107, CDC Procurement and Grants Office, 2920 Brandywine Road, Atlanta, GA 30341-4146.

Applications may not be submitted electronically.

CDC Acknowledgment of Application Receipt

A postcard will be mailed by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) Carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application—Part 1

Applicants are required to provide measures of effectiveness that will demonstrate the accomplishment of the various identified objectives of the cooperative agreement. Measures of effectiveness must relate to the performance goal as stated in the purpose section of this announcement. Measures must be objective and quantitative and must measure the intended outcome. These measures of effectiveness shall be submitted with the application and shall be an element of evaluation.

Each application will be evaluated individually against the following criteria by an independent review group appointed by CDC:

1. Staffing, Facilities, and Management (35 points). The degree to which the applicant provides evidence of an ability to carry out the proposed project, the extent to which the applicant institution documents the capability to achieve objectives of this project, and the extent to which professional personnel involved in this project are qualified, including evidence of past achievements appropriate to this project.

2. Program Plan (25 points). The adequacy of the applicant's plan for administering the proposed project.

3. Objectives (20 points). The degree to which proposed objectives are clearly stated, realistic, measurable, time-phased, related to the purpose of this project, and regularly monitored and evaluated.

4. Background (15 points). The extent to which the applicant understands the requirements, problems, objectives, complexities, and interactions required of this cooperative agreement.

5. Measures of Effectiveness (5 points). The extent to which the applicant's measures of effectiveness are clearly designed to measure the intended outcome.

6. Budget (not scored). Extent to which the estimated cost to the Government of the project is reasonable and clearly justified.

Application—Part 2

In addition to addressing the criteria for Part 1 above, applicants for Part 2 funding must separately address the following criteria in their narrative:

1. Outreach Plan (40 points). The adequacy of the plan of outreach and coordination to facilitate linkages between acute care, trauma, and EMS organizations and state and local injury programs.

2. Information gathering (30 points). The adequacy of the applicant's plan to conduct a periodic survey of these organizations regarding the status of linkages with state and local injury control programs.

3. Needs Assessment (30 points). The adequacy of the applicant's plan to conduct an assessment to determine what needs exist following implementation of efforts, and make recommendations as to how best to fill those needs.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial status and performance reports, no more than 90 days after the end of the project period.

Send all reports to the Grants Management Specialist identified in the “Where to Obtain Additional Information” section of this announcement.

Additional Requirements

The following additional requirements are applicable to this program. For a complete description of each, see Attachment I of the program announcement, as posted on the CDC Web site.

AR-10 Smoke-Free Workplace Requirements

AR-11 Healthy People 2010

AR-12 Lobbying Restrictions

AR-13 Prohibition on Use of CDC Funds for Certain Gun Control Activities

AR-14 Accounting System Requirements

AR-15 Proof of Non-Profit Status

Executive Order 12372 does not apply to this program.

J. Where To Obtain Additional Information

This and other CDC announcements, the necessary applications, and associated forms can be found on the CDC Web site, Internet address: http://www.cdc.gov. Click on “Funding” then “Grants and Cooperative Agreements.”

For general questions about this announcement, contact: Technical Information Management, CDC Procurement and Grants Office, 2920 Brandywine Road, Atlanta, GA 30341-4146, Telephone: 770-488-2700.

For business management assistance, contact: Van A. King, Grants Management Specialist, CDC Procurement and Grants Office, 2920 Brandywine Road, Atlanta, GA 30341-4146, Telephone: 770-488-2751, E-mail address: vbk5@cdc.gov.

For program technical assistance, contact: Phyllis C. McGuire, Project Officer, National Center for Injury Prevention and Control, Centers for Disease Control and Prevention, 4770 Buford Highway, NE Mailstop F-41, Atlanta, GA 30341, Telephone number: 770-488-1275, E-mail address: pcm1@cdc.gov.

Dated: June 20, 2003.
Sandra R. Manning,
Director, Procurement and Grants Office, Centers for Disease Control and Prevention.

[FR Doc. 03-16147 Filed 6-25-03; 8:45 am]

BILLING CODE 4163-18-P